DEPARTMENT OF HEALTH AND HUMAN SERVICES

Centers for Disease Control and Prevention

Reorganization of the Office of Public Health Data, Surveillance, and Technology

AGENCY: Centers for Disease Control and Prevention (CDC), the Department of Health and Human Services (HHS).

ACTION: Notice.

SUMMARY: CDC has modified its structure. This notice announces the reorganization of the Office of Public Health Data, Surveillance, and Technology (OPHDST).

DATES: This reorganization was approved by the Director of CDC on June 28, 2023.

FOR FURTHER INFORMATION CONTACT: D'Artonya Graham, Office of the Chief Operating Officer, Office of the Director, Centers for Disease Control and Prevention, 1600 Clifton Road NE, MS TW-2, Atlanta, GA 30329; Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of the Office of Public Health Data, Surveillance, and Technology, Centers for Disease Control and Prevention. Specifically, the changes are as follows:

I. Under Part C, Section C-B, Organization and Functions, insert the following:

• Office of Public Health Data, Surveillance, and Technology (CAK)

• Office of the Director (CAK1)

• Office of the Deputy Director for Technology and Products (CAK12)

• Technology Strategy Office (CAK122)

• Technology Implementation Office (CAK123)

• Office of the Deputy Director of Management and Operations (CAK13)

• Office of Communications (CAK132)

• Management and Operations Office (CAK133)

• Customer Success and Engagement Unit (CAK14)

• Policy, Legislative Affairs, and Partnerships Unit (CAK15)

• Detect and Monitor Division (CAKB)

• Office of the Director (CAKB1)

• Public Health Data Transmission Branch (CAKBB)

• Integrated Monitoring Branch (CAKBC)

• Investigate and Respond Division (CAKC)

• Office of the Director (CAKC1)

• Public Health Investigation Tools Branch (CAKCB)

• Analytics and Operations Tools Branch (CAKCC)

• Inform and Disseminate Division (CAKD)

• Office of the Director (CAKD1)

• Actionable Data Branch (CAKDB)

• Dissemination Technology and Services Branch (CAKDC)

• Data Policy and Standards Division (CAKE)

• Office of the Director (CAKE1)

• Data Standards Branch (CAKEB)

• Data Policy Branch (CAKEC)

• Platforms Division (CAKG)

• Office of the Director (CAKG1)

• Shared Technology Platform Branch (CAKGB)

• Shared Data Platform Branch (CAKGC)

II. Under Part C, Section C-B, Organization and Functions, add the following functional statements:

Office of Public Health Data, Surveillance, and Technology (CAK). The mission of the Office of Public Health Data, Surveillance, and Technology (OPHDST) is to optimize timely access, exchange, and integration of public health data while driving efficiency and consolidation of data and technology systems supported by CDC across all levels of public health and advancing open data and dissemination to inform decision making and action. In summary, the Office ensures the right data, at the right time, is in the right hands so people can make informed decisions. To carry out this mission, OPHDST: (1) serves as the principal advisor to the CDC Director and Immediate Office of the Director (IOD) on public health data, surveillance, and technology; (2) advises the CDC Director and IOD in formulating and communicating data, surveillance, and technology strategic initiatives and policies, including the formulation of the Agency's Public Health Data Strategy; (3) informs and represents the CDC Director and IOD on key public health data, surveillance, and technology issues; (4) provides overall strategic leadership and direction for the Public Health Data Strategy, public health data assets, products, platforms, governance, and policy, as well as statistics, surveillance, advanced analytics, informatics and epidemiology; (5) identifies, facilitates, promotes, leads, and drives cross-center and interagency collaboration, innovation, and new initiatives related to public health data assets, products, platforms, governance, statistics, advanced analytics, surveillance, informatics and epidemiology; (6) coordinates with CDC leaders and public health partners to develop and implement public health data, surveillance, and technology goals and objectives to meet public health core mission needs; (7) identifies public health data, surveillance, advanced analytics, and technology issues of importance and executes strategic initiatives to address them, including developing shared goals and monitoring progress and accomplishments; (8) leads policy, communications, partner engagement, management, and operations for the office; (9) leads the establishment, evaluation, monitoring, and reporting of accountability and measurable outcomes for the Office, including implementation of the Public Health Data Strategy; (10) provides leadership and support to OPHDST components on information resources policy, information security, and shared, collaborative services; (11) integrates security, local governance, and project management across each of OPHDST's investment's life cycle; (12) coordinates technical assistance, support, communication, guidance, and engagement for public health data, surveillance, and technology to ensure alignment with the Public Health Data Strategy with CDC programs; state, tribal, local, and territorial (STLT) agencies, and other external partners or organizations; (13) leads Information Technology and Data Governance coordination to ensure data assets and investments are aligned with the Public Health Data Strategy and priorities, the Data Modernization Initiative (DMI) and Federal requirements; and (14) provides supervision and oversight to the National Center for Health Statistics.

Office of the Director (CAK1). (1) provides strategic direction regarding the Public Health Data Strategy and priorities for public health data, surveillance, analytics, and technology, with the goal to support core public health missions equitably; (2) oversees execution and coordination of priority and strategic activities in areas of public health data, surveillance, advanced analytics, and technology across OPHDST; (3) guides coordination and engagement across Federal and STLT agencies, public health partners, and healthcare entities for public health data, surveillance, and technology; (4) manages, directs, coordinates, and evaluates the activities of the Office; (5) defines goals and objectives for policy formation, scientific oversight, and guidance in program planning and development; (6) provides oversight for the evaluation of the programmatic performance of all OPHDST activities, including DMI; (7) manages intergovernmental and external affairs and cultivates strategic partnerships; (8) ensures scientific quality, integrity, and clearance across the Office; (9) collaborates and consults with other Centers, Institute and Offices (CIOs); STLT health agencies, other Federal agencies, international partners, and other private and public sector partners; (10) represents OPHDST and CDC at professional and scientific meetings, and with private and public partners; (11) administratively hosts and supports CDC's Chief Data Officer and provides leadership, coordination, and consultative services in enterprise analytics, data discovery, data science, data management, and data governance; and (12) engages in HHS data strategy and governance, the Evidence Act and Federal Data Strategy Implementation through agency-wide initiatives including DMI.

Office of the Deputy Director for Technology and Products (CAK12). (1) oversees the execution of the Public Health Data Strategy activities, including the data, technology, platforms, and product strategy for OPHDST and the activities of OPHDST's divisions; (2) provides strategic input and direction, and coordinates the services, tools and products that OPHDST offers to STLT agencies, CDC programs, partners, and the public; (3) leads the establishment, evaluation, monitoring, and reporting of accountability and measurable outcomes for the Office, including implementation of the Public Health Data Strategy; (4) identifies public health data, surveillance, advanced analytics, and technology issues of importance and executes strategic initiatives to address them, including developing shared goals and monitoring progress and accomplishments; (5) provides strategic direction regarding the Public Health Data Strategy; (6) coordinates and oversees product design for OPHDST; (7) provides direct supervision to technology leads and division leads as specified by the CDC Director; (8) provides technical and leadership consultation to technical and product leads to support efforts to meet priority goals and activities; (9) provides technical and subject matter knowledge to inform resource and budget prioritization and decisions; (10) represents Agency and OPHDST with external partners, particularly private industry, and at relevant meetings and conferences; (11) contributes to the hiring of technical leadership for OPHDST; and (12) leads strategic design initiatives that span the OPHDST portfolio.

Technology Strategy Office (CAK122). (1) coordinates and oversees office-wide software architecture and data governance for OPHDST; (2) provides strategic direction for data management for public health data; (3) provides strategic input and technical expertise into the development and execution of the Public Health Data Strategy; (4) leads efforts to strategically improve technology and systems, including health information technology strategy, in coordination with other Federal agencies; (5) coordinates information security policies and procedures with the Office of Chief Information Security Officer; (6) provides information security consultation and guidance to support OPHDST offices and divisions; (7) leads information security certification and accreditation of OPHDST systems and technology; and (8) provides review and approval for third party website and Level III software requests for OPHDST offices and divisions.

Technology Implementation Office (CAK123). (1) ensures operations are in accordance with CDC Capital Planning and Investment Control guidelines; (2) maintains and provides visibility on the integrated technology roadmap across OPHDST products, technology, and tools, and ensures alignment with overall CDC and OPHDST priorities; (3) coordinates technology releases across divisions when necessary; (4) tracks progress against the Public Health Data Strategy or other milestones and goals across OPHDST technology and products; (5) tracks and evaluates progress towards achieving overall strategic vision and metrics to ensure meaningful and timely implementation; (6) coordinates Agency information technology governance strategy via the Information Technology and Data Governance Committee; (7) develops and implement governance frameworks, aligned with the CDC's goals, policies, standards and with clear structure, roles and responsibilities, policies, and procedures, and performance metrics; (8) provides guidance and training to employees and partners on governance policies, procedures, and best practices and facilitate communication and collaboration across the agency; (9) facilitates decision-making by providing partners with relevant information and analysis, and helping to align decisions with the organization's goals and priorities; and (10) ensures that governance processes are transparent and accountable by developing and implementing performance metrics and reporting mechanisms, as well as fostering a culture of integrity and ethical behavior.

Office of the Deputy Director of Management and Operations (CAK13). (1) provides leadership and guidance in the development and implementation of goals, objectives, priorities, policies, program planning, management, and operations of all general activities within the Office; (2) oversees, manages, directs, coordinates, and evaluates all Office management and operations activities; (3) coordinates with all Office units and divisions in determining and interpreting operating policy and in ensuring their respective management input for specific program activity plans are included; (4) provides leadership for implementing statutory and compliance responsibilities across the Office; (5) oversees STLT funding, monitoring, and management and operations units; (6) provides and directs overall internal and external communication strategies for the Office; (7) provides leadership for and assessment of all administrative management activities to assure coordination for all management and program matters, such as coordinating risk management and emergency response activities; (8) provides overall programmatic direction for planning and management oversight of allocated resources, human resource management and general administrative support; (9) directs and coordinates activities in support of the Department's Equal Employment Opportunity program, diversity, equity, inclusion and belonging enhancement and employee professional development opportunities; (10) reviews the effectiveness and efficiency of all administration and operations of OPHDST programs; (11) develops and directs employee engagement programs for the Office, such as employee recognition programs; (12) analyzes OPHDST workforce, succession, strategic planning systems, and resources on an ongoing basis; (13) provides scientific leadership for the Office, and informs and guides staff on scientific matters; (14) ensures OPHDST produces the highest quality, most useful, and most relevant science possible; (15) manages scientific clearance for OPHDST and assures scientists follow CDC's policies on data release and sharing; (16) oversees and directs Institutional Review Board, Office of Management Budget (OMB) Paperwork Reduction Act, and Confidentiality activities for the Office; and (17) conducts peer review of scientific programs.

Office of Communications (CAK132). (1) coordinates and leads the implementation of CDC-wide communication initiatives and policies, including health literacy, plain language, and CDC branding; (2) executes web development for the OPHDST intranet and SharePoint sites and provides technical assistance and training in accessing and using these resources for internal communication and information sharing; (3) facilitates cross-division and cross-office coordination of health communication activities, sharing of lessons learned, and development of best practices; (4) develops and manages relationships with a wide range of partners and customers, including other government agencies, Federal and STLT departments and agencies, national partners, and private organizations; (5) leads and oversees news media strategy and evaluation, including news response, media monitoring, proactive media engagement, media training, and long lead pitching; (6) leads digital communication and marketing strategies and manages digital channels; (7) leads strategic planning for communications and branding programs and projects for OPHDST and data, surveillance, and technology issues; (8) manages and coordinates clearance of OPHDST print and non-print materials, ensuring adherence to and consistency with CDC and HHS information and publication policies and guidelines; (9) oversees, manages, and executes CDC web and digital governance through matrix management and workgroup structures; (10) provides communication support and technical assistance and training in accessing centralized communication systems available through OPHDST, CDC's Office of Communications (OC), and other offices; (11) provides ongoing communication leadership and support to Office leadership in furthering the Office's mission; (12) provides oversight and approval for CDC logo licensing requests from external partner organizations and involving OPHDST divisions and programs; (13) represents OPHDST on cross-CIOs and external committees, workgroups, and at conferences relating to health communication activities; (14) serves as primary liaison between OPHDST and CDC's OC; and (15) provides strategic communication direction and technical assistance across OPHDST to ensure all health communication activities are evidence-based and demonstrate impact.

Office of Management and Operations (CAK133). (1) coordinates and oversees OPHDST-wide program, administrative, and management support services in the areas of fiscal management, budget planning and execution, personnel, travel, performance, Freedom of Information Act (FOIA), workforce planning, diversity, equity, inclusion, accessibility, and belonging, space, and other administrative services; (2) coordinates OPHDST requirements relating to contracts, grants, cooperative agreements, Inter-Agency Agreements/Intra-Departmental Delegation of Authorities, and reimbursable agreements; (3) manages annual budget formulation, planning, and budget oversight; (4) develops and implements financial, human capital, facility, and administrative policies, procedures, and operations, as appropriate and prepares special reports and studies, as required; (5) maintains liaison with related Office and CIO staff and other officials of CDC, STLT, national partners, and Federal agencies; (6) plans, coordinates, and provides overall management, operations, and administrative support, advice, and guidance to OPHDST; (7) employs effective evaluation techniques that assess the progress, impact, and success of STLT modernization activities; (8) provides fiscal stewardship to support STLT modernization; (9) coordinates with Public Health Infrastructure Center, Epidemiology and Laboratory Capacity, and other funding mechanisms to ensure guidance, requirements, and metrics align with the Public Health Data Strategy and DMI goals and priorities, as well as other data related standards; and (10) provides learning and development programs and opportunities to OPHDST staff.

Customer Success and Engagement Unit (CAK13). (1) leads engagement and coordination for OPHDST focused on customer success management to include CDC, Federal, STLT public health agencies, and private partners with an emphasis on diversity, equity, inclusion and belonging; (2) leads transformation and change management strategies to implement Public Health Data Strategy Goals and DMI; (3) collects and synthesize customer perspectives including needs, pain points, and goals for decision-making processes including OPHDST strategic planning and product development processes; (4) ensures customer needs are addressed through established regular feedback processes to collect and analyze satisfaction levels, identify areas for improvement, develop action plans in collaboration with product teams; (5) manages customer relationships and ensure that customers are successful in achieving their desired outcomes through the use of products and services by providing customer service, training, resources, and technical assistance to support the journey from onboarding, ongoing support, and retention; (6) builds and maintain strong customer relationships to fully understand needs, goals, and challenges; (7) tracks and report on key performance indicators or metrics related to customer success and satisfaction; (8) facilitates and leverages insights from user panels consisting of representative users to provide insights and feedback on the usability, functionality, and overall user experience of products to the OPHDST product teams; (9) collaborates across CDC and STLT partners to facilitate a coordinated, streamlined approach to data modernization activities aligned to the Public Health Data Strategy; and (10) develops strategies that promote a health equity lens to advance modernization efforts across all customers.

Policy, Legislative Affairs, and Partnerships Unit (CAK14). (1) manages policy and legislative affairs for OPHDST; (2) leads Office-wide partnership efforts, including maintaining current partnerships and fostering new partnership opportunities, including private partnerships; (3) provides technical assistance on legislation; (4) leads and coordinates issues management for OPHDST across CIOs and with the CDC IOD, including management of the special assistants for the OPHDST director; (5) manages all oversight requests from Congress, the Government Accountability Office and Office of Inspector General; (6) leads Office-wide policy and legislative affairs efforts including leading the budget justifications for HHS, OMB and Congress, all Congressional briefings, requests, and correspondence, FOIA; (7) leads strategic legislative affairs for the Office with a focus on securing long-term sustained funding and the authorities necessary for CDC to achieve its mission; and (8) leads the development of all policy materials and policy coordination across CDC, including with the CDC IOD and other CIOs.

Detect and Monitor Division (CAKB). (1) enables transmission of core data sources for monitoring and rapid detection of public health events at the Federal, state, and local levels; (2) conducts integrated surveillance to track diseases and conditions nationally; and (3) improves surveillance capabilities of STLTs, Federal and global partners, and internal CDC programs, innovating as needed.

Office of Director (CAKB1). (1) provides consultation, strategic guidance, and subject matter expertise to the OPHDST director and deputy directors to execute OPHDST priorities; (2) represents Agency and OPHDST with external partners, including STLT partners; (3) provides leadership to and supervision of the division's branches; (4) works with OPHDST/Office of Director (OD) to ensure hiring, spending plans and budgets are in line with OPHDST and division strategies and priorities; (5) responsible for the execution of OPHDST strategy goals and milestones that align with the Detect and Monitor Division and supports priority goals of other divisions within OPHDST; (6) develops and oversees execution strategy for meeting the Public Health Data Strategy goals, and improving surveillance capabilities; (7) proposes resource priorities throughout the budget cycle; (8) ensures scientific quality, integrity, and clearance coordination across the division; (9) identifies dependencies and coordinates synergies between Detect and Monitor Division and OPHDST offices and divisions; (10) ensures close collaboration and coordination of surveillance activities with other partners, including STLTs, CDC programs, and others as indicated; and (11) ensures communications are aligned with OPHDST/OD and shared across the Detect and Monitor Division.

Public Health Data Transmission Branch (CAKBB). (1) supports the onboarding and transmission of core data sources needed for surveillance of public health events, including case and lab data from STLTs to CDC; (2) supports development, onboarding and use of electronic case reporting data; (3) develops robust data engineering and mapping efforts to maximize use of public health data available within jurisdictions by OPHDST and CDC programs, including for core and program-specific case data; (4) modernizes approaches and tools for public health core data ingestion and to improve data quality, completeness, and timeliness; (5) provides notifiable case data to partners within OPHDST, CDC programs, response, and STLT partners in near real-time; (6) onboards and improves quality of lab data and other data sources to support situational awareness in CDC and across STLTs; (7) takes a human-centered design approach, engaging with customers and end-users; (8) incorporates advanced analytics, machine learning and other innovative approaches to enable automated and robust use of data; (9) coordinates with divisions and OPHDST leadership to identify priority needs and implement plans; and (10) identifies new and novel data sources to promote the core public health missions to detect and monitor public health missions to detect and monitor.

Integrated Monitoring Branch (CAKBC). (1) conducts and enables integrated surveillance across data sources; (2) identifies and experiments with new data sources for integrated surveillance; (3) develops and refines tools and approaches used for national surveillance; (4) engages with STLTs, CDC programs and global partners to support integrated monitoring for routine and emergent public health needs; (5) provides training in surveillance capabilities for STLTs, Federal partners, and CDC programs and offices; (6) takes a human-centered design approach to engage with customers and end-users; (7) incorporates advanced analytics, machine learning and other innovative approaches to enable automated and robust use of data; and (8) coordinates with divisions and OPHDST leadership to identify priority needs and implement plans.

Investigate and Respond Division (CAKC). (1) empowers STLTs and other public health actors with the tools and insights to investigate, prevent, and minimize public health risks; and (2) innovates to bolster future responses and public health's ability to investigate cases, outbreaks, and public health threats.

Office of Director (CAKC1). (1) provides consultation, strategic guidance, and subject matter expertise to the OPHDST director and deputy directors to execute on OPHDST priorities; (2) represents Agency and OPHDST with external partners, including STLT partners; (3) provides leadership to and supervision of the division's branches; (4) works with OPHDST/OD to ensure hiring, spending plans and budgets are in line with overall division strategies and priorities; (5) ensures the OPHDST strategy is executed in the Investigation and Respond Division and aligned with overall CDC and the Public Health Data Strategy goals; (6) develops execution strategy for improving surveillance capabilities; (7) proposes resource priorities throughout the budget cycle; (8) ensures scientific quality, integrity, and clearance across the division; (9) identifies dependencies and coordinates synergies between Investigate and Respond and OPHDST offices and divisions; and (10) ensures communications are aligned OPHDST/OD and shared across the Investigate and Respond Division.

Public Health Investigation Tools Branch (CAKCB). (1) develops technology that enables jurisdictions to ingest and harmonize data across data sources; (2) develops technology and tools that enable and make it easier for STLTs, CDC programs, and other partners to identify and conduct case, disease, and public health surveillance as well as conduct public health investigations; (3) takes a human-centered design approach, engaging with end users to understand priority needs and continually develop and test solutions; (4) facilitates evaluation of solutions to assess impact of new or enhanced tools and solutions; (5) works with private partners to identify and develop innovation and new tools and solutions; (6) develops technology and tools to automate processes to reduce the burden of day to day STLT functions to investigate and respond to public health threats; (7) develops technology and tools that promote and advance the ability to ensure cases and public health threats can be reported, investigated and responded to in vulnerable settings and populations; and (8) develops and implement a strategy to prioritize, identify, test, and develop innovative tools and solutions that support case and public health threat investigations, particularly at the jurisdictional level and in vulnerable and under-resourced areas and settings.

Analytics and Operations Tools Branch (CAKCC). (1) develops technology and tools that enable jurisdictions to easily implement countermeasures, track impact, and operationalize response activities (e.g., planning of testing, vaccines, education initiatives) to promote public health and advance health equity; (2) develops and implement a strategy to prioritize, identify, test, and develop advanced analytic and other automated solutions that empower and support jurisdictional needs to access, use, analyze, link, and integrate data; (3) takes a human-centered design approach, engaging with end users to understand needs and continually test solutions; and (4) works with private partners to identify and develop innovation and new tools and solutions.

Inform and Disseminate Division (CAKD). (1) provides the public and public health decision makers timely and actionable data, analytics, and insights to guide decisions; (2) engages with CDC programs and other end users to ensure the agency maintains a relevant and accessible data portfolio and analytic capabilities that can be leveraged to address key public health questions; and (3) provides data and data products in multiple ways to meet users' needs and align with their data management and analytic capabilities, including providing access to self-service data, derived analytic products and data visualizations.

Office of Director (CAKD1). (1) provides consultation, strategic guidance, and subject matter expertise to the OPHDST director and deputy directors to execute on OPHDST priorities; (2) represents Agency and OPHDST with external partners, including STLT partners; (3) provides leadership to and supervision of the division's branches; (4) works with OPHDST/OD to ensure hiring, spending plans and budgets are in line with overall division strategies and priorities; (5) ensures the OPHDST strategy is executed in the Inform and Disseminate Division and aligned with overall CDC and Public Health Data Strategy goals; (6) develops execution strategy for improving surveillance capabilities; (7) proposes resource priorities throughout the budget cycle; (8) ensures scientific quality, integrity, and clearance across the division; (9) identifies dependencies and coordinates synergies between Inform and Disseminate, OPHDST offices and divisions and other CDC programs; and (10) ensures communications are aligned with OPHDST/OD and shared across the Inform and Disseminate Division.

Actionable Data Branch (CAKDB). (1) acquires and manages high-value data assets that have wide applicability for use by CDC programs and other users; (2) works with Data Policy and Standards Division to use best practices for data acquisition and governance that maximizes use of the data by the agency and partners and ensures data security and alignment with acquisition agreements; (3) continually evaluates overall data portfolio to ensure data assets are of sufficient quality, address key public health use cases and support health equity-related analyses and aims; (4) works with OPHDST divisions, the CDC Office of the Chief Information Officer and other partners to ensure access to effective and state-of-the-art analytic tools and methods; (5) maintains and leverages expertise in data science, data analytics, and epidemiology to provide a continuum of analytic and scientific services that address major public health surveillance and research questions; (6) transforms data into useful data products and visualizations that serve end-users; (7) provides training on using self-serve data for customers; and (8) ensures customers' needs are timely and effectively addressed through the use of standardized processes and customer relationship management tools.

Dissemination Technology and Services Branch (CAKDC). (1) identifies and implements best practices for sharing data, data products, and resultant information with the public and other partners to inform action; (2) takes a human-centered design approach to develop and maintain technology and tools that make self-serve data easily accessible to the public and other partners; (3) works with CDC programs to develop integrated data products that leverage diverse data sources to showcase findings across disease types and can be used to support public health emergency response activities; and (4) develops, implements, and evaluates comprehensive communication strategies to enhance interpretation of data to inform action.

Data Policy and Standards Division (CAKE). (1) sets and interprets data and technology policy and standards to ensure data transmitted across the public health ecosystem is robust, interoperable, and nimble; (2) enables agency-wide decision-making reflecting actionable data governance; (3) engages external partners in developing and updating data policy and standards to address evolving needs and opportunities in public health; and (4) leads CDC's interoperability and data policy strategies.

Office of Director (CAKE1). (1) provides consultation, strategic guidance, and subject matter expertise to the OPHDST director and deputy directors to execute on OPHDST priorities; (2) represents Agency and OPHDST with external partners, including STLT partners; (3) provides leadership to and supervision of the division's branches; (4) works with OPHDST/OD to ensure hiring, spending plans, and budgets are in line with overall division strategies and priorities; (5) ensures the OPHDST strategy is executed in the Data Policy and Standards Division and aligned with overall CDC and Public Health Data Strategy goals; (6) develops execution strategy for improving policy capabilities in coordination with OPHDST Policy, Legislative Affairs, and Partnerships unit; (7) proposes resource priorities throughout the budget cycle; (8) ensures scientific quality, integrity, and clearance across the division; (9) identifies dependencies and coordinates synergies between the Data Policy and Standards Division and OPHDST offices and divisions; and (10) ensures communications are aligned OPHDST/OD and shared across the Data Policy and Standards Division.

Data Standards Branch (CAKEB). (1) works with internal and external partners to define, improve, and update standards for the public health community; (2) develops new vocabulary standards for public health exchange and promotes the adoption of HL7 standards and best practices; (3) defines minimum data elements for case and laboratory data collection efforts within CDC; (4) promotes the adoption of and compliance with internal agency policies for minimum data elements for notifiable and non-notifiable disease collections; and (5) collaborates with the Technology Strategy and Standards Office to develop and adopt interoperability standards for systems and health information technology functional services.

Data Policy Branch (CAKEC). (1) develops, implements, and monitors CDC data sharing policies, including modular data use agreements, data access agreements, funding requirements, and open data policies to promote rapid data access and use; (2) directs the Office's data access policy to ensure open data (3) engages with STLT lawyers to ensure maximal data exchange between public health partners; (4) applies data policies to the formal procurement of data on behalf of the agency and to the acquisition of non-purchased data sets at CDC; (5) improves interoperability between public health, healthcare, laboratories, and other data exchange partners by developing and maintaining a CDC interoperability strategy that leverages regulatory frameworks and cross-agency program incentives; (6) ensures data is acquired, shared, and used in an ethical manner that promotes health equity; and (7) builds data policy into systems to make it easy to understand and operationalize policy frameworks for technical and scientific solutions.

Platforms Division (CAKG). (1) procures and develops tools, services, machine learning models, and infrastructure that accelerates the execution of the other OPHDST division's work; (2) adds new capabilities to products and services that the OPHDST divisions deliver; (3) in coordination with the OD, develops a cross-division technical strategy as required by the Public Health Data Strategy and in anticipation future public health needs; (4) builds tools and services to ensure data quality and integrity across the division; and (5) leads, promotes, and supports the Data Engineering and Data Science community of practices within the division.

Office of Director (CAKG1). (1) provides consultation, strategic guidance, and subject matter expertise to the OPHDST director and deputy directors to execute on OPHDST priorities; (2) represents CDC and OPHDST with external partners, including STLT partners; (3) provides leadership to and supervision of the division's branches; (4) works with OPHDST/OD to ensure hiring, spending plans, and budgets are in line with overall division strategies and priorities; (5) ensures the OPHDST strategy is executed in the Platforms Division and aligned with overall CDC and Public Health Data Strategy goals; (6) proposes resource priorities throughout the budget cycle; (7) ensures data quality and integrity across the division; (8) identifies dependencies and coordinates synergies between Platforms and OPHDST offices and divisions; (9) ensures communications are aligned OPHDST/OD and shared across the Platforms Division; and (10) leads, promotes, and supports the Data Engineering and Data Science community of practices within the division.

Shared Technology Platform Branch (CAKGB). (1) builds and procures tools, services, and infrastructure that are used across divisions and that support the Public Health Data Strategy; (2) in coordination with the OPHDST/OD, add new capabilities to products and services that the divisions deliver; (3) take a human-centered design approach, engaging with customers and end users; (4) in coordination with the OD and other OPHDST divisions, works on core technology that promotes and assists interoperability between healthcare and public health as well as between public health agencies; and (5) develops tools to observe data quality and integrity across OPHDST.

Shared Data Platform Branch (CAKGC). (1) builds and procures data terminology and models that are used across divisions and to support the Public Health Data Strategy; (2) innovates the use of statistical and machine learning techniques for public health purposes; (3) in coordination with the OD, add new capabilities to products and services that the OPHDST divisions deliver; (4) develops approaches to measure data quality and integrity across OPHDST; and (5) leads, promotes, and supports the Data Engineering and Data Science community of practices within the division.

V. Under Part C, Section C-B, Organization and Functions, the following organizational units are deleted in their entirety:

• Enterprise Data Office (CAJR17) within the Office of the Director, Office of the Chief Operating Officer.

• Division of Health Informatics and Surveillance Systems (CPNE) within the Center for Surveillance, Epidemiology and Laboratory Services (CPN), Deputy Director for Public Health Science and Surveillance.

• Information Systems Branch (CPNEB) within the Center for Surveillance, Epidemiology and Laboratory Services (CPN), Deputy Director for Public Health Science and Surveillance.

• Surveillance and Data Branch (CPNEC) within the Center for Surveillance, Epidemiology and Laboratory Services (CPN), Deputy Director for Public Health Science and Surveillance.

• Partnerships and Evaluation Branch (CPNED) within the Center for Surveillance, Epidemiology and Laboratory Services (CPN), Deputy Director for Public Health Science and Surveillance.

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2023-14698 Filed 7-11-23; 8:45 am]

BILLING CODE 4163-18-P